DEPARTMENT OF THE INTERIOR

Bureau of Land Management

[LLORP00000.L54400000.EU0000.20X.LVCLH14H0900.HAG 19-0059]

Notice of Intent To Prepare a Brothers La Pine Resource Management Plan Amendment and Associated Environmental Assessment To Address Unauthorized Occupancy, Crook County, OR

AGENCY: Bureau of Land Management, Interior.

ACTION: Notice of intent.

SUMMARY: In compliance with the National Environmental Policy Act of 1969, as amended (NEPA), and the Federal Land Policy and Management Act of 1976, as amended (FLPMA), the Bureau of Land Management (BLM) Prineville District Office in Prineville, Oregon, is proposing to amend the 1989 Brothers La Pine Resource Management Plan (RMP) with an associated environmental assessment (EA) and by this Notice is announcing the beginning of the scoping process to solicit public comments on issues and planning criteria. The amendment would change the land tenure classification on 17.5 acres from zone 1 (Z-1, retention) to zone 3 (Z-3, suitable for disposal).

DATES: This Notice initiates the public scoping process for the RMP amendment with associated EA. Comments on issues and planning criteria may be submitted in writing until December 26, 2019. In order to be included in the analysis, all comments must be received prior to the close of the 30-day scoping period. The district will provide additional opportunities for public participation as appropriate.

ADDRESSES: You may submit comments on issues and planning criteria related to the Brothers La Pine RMP amendment and unauthorized occupancy resolution EA by any of the following methods:

• Website: http://bit.ly/Lands-Resolution.

• Email: BLM_OR_PR_Mail@blm.gov.

• Fax: 1-541-416-6782.

• Mail: Land Resolution, 3050 NE 3rd Street, Prineville, OR 97754.

Documents pertinent to this proposal may be examined at the Prineville District Office, 3050 NE 3rd Street, Prineville, OR 97754.

FOR FURTHER INFORMATION CONTACT: For further information and/or to have your name added to our mailing list, contact Jeffrey Kitchens, Field Manager, at 541-416-6766 or by using the physical and email addresses above. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: This RMP amendment and associated EA will address the above change in land tenure classification as well as a land disposal of 17.5 acres of public land located in Crook County within Township 16 South, Range 18 East (T. 16 S, R 18 E, Sec. 8, SE¼NW¼), Willamette Meridian, Oregon. A house and other structures built in the mid-1990s exist on the parcel as part of a long-term, unauthorized occupancy, use, and development. The purpose of the amendment is to enable the BLM to consider a full range of reasonable alternatives for permanently resolving the issue. If, through the land use planning process, it is determined that a change in classification to allow for land disposal is appropriate, the BLM will fully review the possible disposal consistent with Secretarial Order 3373, “Evaluating Public Access in Bureau of Land Management Public Land Disposals and Exchanges.”

The purpose of the public scoping process is to determine relevant issues that will influence the scope of the RMP amendment and associated EA, including alternatives, and to guide the planning process. Preliminary issues include: How would the land tenure classification change affect Native American spiritual and traditional uses, wildlife, and visual resources? Preliminary planning criteria include: (1) Completing the plan in compliance with FLPMA, NEPA, and all other relevant Federal laws, Executive Orders, and management policies of the BLM; (2) Incorporating existing planning decisions that are still valid into the new amendment; (3) Recognizing valid existing rights; (4) Conducting tribal consultation in accordance with policy and considering tribal concerns, including potential impacts to cultural resources and tribal rights; and (5) Including, at a minimum, an alternative that continues existing land tenure classification (Z-1) and one that changes the classification to Z-3 and allows for disposal, including whether the disposal would impact access to surrounding public lands that provide recreational opportunities.

You may submit comments on issues and planning criteria in writing to the BLM using one of the methods listed in the ADDRESSES section above.

The BLM will use the NEPA public participation requirements to assist the agency in satisfying the public involvement requirements under Section 106 of the National Historic Preservation Act (NHPA) (16 U.S.C. 470(f)) pursuant to 36 CFR 800.2(d)(3).

The BLM will consult with tribes on a government-to-government basis in accordance with Executive Order 13175 and other policies. Tribal concerns, including impacts on Indian trust assets and potential impacts to cultural resources, will be given due consideration. Federal, State, and local agencies, along with tribes and other stakeholders that may be interested in or affected by this action the BLM is evaluating, are invited to participate in the scoping process and, if eligible, may request or be requested by the BLM to participate in the development of the EA as a cooperating agency.

Before including your address, phone number, email address, or other personal identifying information in your comment, you should be aware that your entire comment—including your personal identifying information—may be made publicly available at any time. While you can ask us in your comment to withhold your personal identifying information from public review, we cannot guarantee that we will be able to do so.

The BLM will identify issues to be addressed in the RMP amendment and associated EA and will place them into one of three categories:

1. Issues to be resolved in the RMP amendment and associated EA,

2. Issues to be resolved through policy or administrative action, or

3. Issues beyond the scope of this RMP amendment.

The BLM will provide an explanation in the EA as to why an issue was placed in category two or three. The public is encouraged to identify any management questions and concerns that should be addressed in the RMP amendment and associated EA.

The BLM will use an interdisciplinary approach to develop the RMP amendment and associated EA in order to consider the variety of resource issues and concerns identified, including recreational access. Specialists with expertise in the following disciplines will be involved in the planning process: Rangeland management, outdoor recreation, visual resource management, archeology, paleontology, wildlife, botany, hazardous materials, and lands and realty.

Authority: 40 CFR 1501.7 and 43 CFR 1610.2.

Theresa M. Hanley,
Acting State Director.

[FR Doc. 2019-25466 Filed 11-22-19; 8:45 am]

BILLING CODE 4310-33-P